DEPARTMENT OF AGRICULTURE

Forest Service

Environmental Assessment for an Amendment to the Mark Twain National Forest Land and Resource Management Plan: Barry, Bollinger, Boone, Butler, Callaway, Carter, Christian, Crawford, Dent, Douglas, Howell, Iron, Laclede, Madison, Oregon, Ozark, Phelps, Pulaski, Reynolds, Ripley, Ste. Genevieve, St. Francis, Shannon, Stone, Taney, Texas, Washington, Wayne and Wright Counties, MO

AGENCY: Forest Service, USDA.

ACTION: Notice of availability.

SUMMARY: On May 28, 1999, Mark Twain National Forest supervisor, Randy Moore, (Responsible Official) initiated a proposal to amend the 1986 Mark Twain National Forest Land and Resource Management Plan (Forest Plan). On April 26, 2001, the resultant Environmental Assessment available for a 30 day public comment period. Copies of the Environmental Assessment are available upon request. The current preferred alternative (Alternative 3), adds standards and guidelines for Fish/Aquatic Ecosystems, Recreation Management, Heritage Resources management and adds Management Prescription 7.1. This notice is provided pursuant to National Forest System Land and Resource Management Planning regulations (36 CFR part 217, 65 FR 67579, November 9, 2000)

All comments received will be evaluated and considered in making the final decision.

DATES: Comments must be received in writing by May 29, 2001.

ADDRESSES: Send requests for documents to: Forest Supervisor, Mark Twain National Forest, 401 Fairgrounds Road, Rolla, MO 65401 Or via the forest web page at www.fs.fed.us/r9/marktwain

FOR FURTHER INFORMATION CONTACT: Kristine Swanson, Integrated Resources Staff Officer, at 573-364-4621, ext. 416. TDD 573-364-6844; or direct electronic mail to mailroom_r9_marktwain@fs.fed.us with the words “NEPA Supervisors Office” in the subject line.

Responsible Official: Randy Moore, Forest Supervisor, 401 Fairgrounds Road, Rolla, MO 65401.

SUPPLEMENTARY INFORMATION: This amendment would add standards and guidelines to the Wildlife Habitat Management section and Recreation and Heritage Resource Management sections of the Mark Twain Land and Resource Management Plan. This new guidance responds to new management guidance, revised Forest Service policy and regulatory mandates, the Forest Service Natural Resource Agenda, and will make the Forest Plan easier to read, understand, and implement in the areas of fisheries, heritage and recreation resource management only.

This is a non-significant amendment.

Dated: May 21, 2001.
Randy Moore,
Forest Supervisor.

[FR Doc. 01-13375 Filed 5-25-01; 8:45 am]

BILLING CODE 3410-11-M